DEPARTMENT OF THE TREASURY

Internal Revenue Service

Low Income Taxpayer Clinic Grant Program; Availability of 2016 Supplemental Grant Application Period

AGENCY: Internal Revenue Service (IRS), Treasury.

ACTION: Notice.

SUMMARY: This document contains a Notice that the IRS is accepting applications from qualified organizations for a part-year Low Income Taxpayer Clinic (LITC) matching grant to provide representation to low income taxpayers and education about taxpayer rights and responsibilities to individuals who speak English as a second language in certain identified geographic areas. The grant will cover the last six months of the 2016 grant year, from July 1, 2016, through December 31, 2016. The supplemental application period shall run from March 1, 2016, to April x1, 2016.

Despite the IRS's efforts to foster parity in availability and accessibility in the selection of organizations receiving LITC matching grants and the continued increase in clinic services nationwide, there remain communities that are underrepresented by clinics.

For the supplemental application period, the IRS will focus on geographic areas where there is limited or no clinic representation.

The IRS will award up to $1.28 million in funding to qualifying organizations, subject to the limitations of Internal Revenue Code section 7526. A qualifying organization may receive a matching grant of up to $100,000 per year. Organizations currently receiving a grant are not eligible to apply during this supplemental application period. Grant funds may be awarded for start-up expenditures incurred during the grant year. The selection process for these part-year grants may not be complete before the beginning of the application period for the 2017 grant year; thus, applicants for a part-year grant will be expected to submit a separate application for full-year funding for the 2017 grant year during the 2017 grant application period, when announced later this year.

Below is a list that contains the identified underserved geographic areas:

State or territory | Areas
Alabama | Statewide.
California | El Dorado, Imperial, Nevada, Placer, Riverside, Sacramento, San Bernardino, Sutter, Yolo, and Yuba counties.
Colorado | Statewide.
Georgia | Statewide.
Illinois | Southern Part of the State.
Mississippi | Statewide.
Nevada | Statewide.
New Mexico | Statewide.
New York | Nassau and Suffolk counties.
North Carolina | Statewide.
North Dakota | Statewide.
Oklahoma | Statewide.
Puerto Rico | Commonwealth-wide.
South Carolina | Statewide.
Tennessee | Eastern Part of the State.
Texas | Statewide.
Utah | Statewide.
Washington | Central Part of the State.

Qualifying organizations that provide representation to low income taxpayers involved in a tax controversy with the IRS and educate individuals for whom English is a second language (ESL) regarding their taxpayer rights and responsibilities under the Internal Revenue Code are eligible for a grant. An LITC must provide services for free or for no more than a nominal fee.

Examples of qualifying organizations include: (1) Clinical programs at accredited law, business or accounting schools whose students represent low income taxpayers in tax controversies with the IRS and (2) organizations exempt from tax under I.R.C. § 501(a) whose employees and volunteers represent low income taxpayers in tax controversies with the IRS.

In determining whether to award a grant, the IRS will consider a variety of factors, including: (1) The number of taxpayers who will be assisted by the organization, including the number of ESL taxpayers in that geographic area; (2) the existence of other LITCs assisting the same population of low income and ESL taxpayers; (3) the quality of the program offered by the organization, including the qualifications of its administrators and qualified representatives, and its record, if any, in providing representation services to low income taxpayers; (4) the quality of the application, including the reasonableness of the proposed budget; (5) the organization's compliance with all federal tax obligations (filing and payment); (6) the organization's compliance with all federal non-tax obligations (filing and payment); (7) whether debarment or suspension (31 CFR part 19) applies, or whether the organization is otherwise excluded from or ineligible for a federal award; and (8) alternative funding sources available to the organization, including amounts received from other grants and contributions, and the endowment and resources of the institution sponsoring the organization.

DATES: Grant applications for the last six months of the 2016 grant year must be electronically filed at www.grants.gov by April 1, 2016. Funding decisions will be made by July 1, 2016, and funds awarded must be spent by December 31, 2016.

ADDRESSES: The LITC Program Office is located at: Internal Revenue Service, Taxpayer Advocate Service, LITC Grant Program Administration Office, TA:LITC, 1111 Constitution Avenue NW., Room 1034, Washington, DC 20224. Copies of the 2016Grant Application Package and Guidelines, IRS Publication 3319 (Rev. 5-2015), can be downloaded from the IRS Internet site at www.irs.gov/advocate or ordered by calling the IRS Distribution Center toll-free at 1-800-829-3676.

FOR FURTHER INFORMATION CONTACT: The LITC Program Office at (202) 317-4700 (not a toll-free number) or by email at L/TCProgramOffice@irs.gov.

SUPPLEMENTARY INFORMATION:

Background

Section 7526 of the Internal Revenue Code authorizes the IRS, subject to the availability of appropriated funds, to award qualified organizations matching grants of up to $100,000 per year for the development, expansion, or continuation of qualified low income taxpayer clinics. A qualified organization is one that represents low income taxpayers in controversies with the IRS and informs individuals for whom English is a second language of their taxpayer rights and responsibilities, and does not charge more than a nominal fee for its services (except for reimbursement of actual costs incurred).

Mission Statement

Low Income Taxpayer Clinics ensure the fairness and integrity of the tax system for taxpayers who are low income or speak English as a second language by providing pro bono representation on their behalf in tax disputes with the IRS, by educating them about their rights and responsibilities as taxpayers, and by identifying and advocating for issues that impact low income taxpayers.

Selection Consideration

Applications that pass the eligibility screening process will undergo a two-tier evaluation process. Applications will be subject to both a technical evaluation and a Program Office evaluation. The final funding decision is made by the National Taxpayer Advocate, unless recused. The costs of preparing and submitting an application (or a request for continued funding) are the responsibility of each applicant. Each application will be given due consideration and the LITC Program Office will notify each applicant once funding decisions have been made.

Nina E. Olson,
National Taxpayer Advocate, Internal Revenue Service.

[FR Doc. 2016-04720 Filed 3-2-16; 8:45 am]

BILLING CODE 4830-01-P